DEPARTMENT OF LABOR

Agency Information Collection Activities; Proposed Extension of Information Collection; Department of Labor Generic Clearance for Outreach Activities

ACTION: Notice of availability; request for comments.

SUMMARY: The Department of Labor (DOL) is submitting this the Office of the Assistant Secretary for Administration and Management (OASAM)-sponsored information collection request (ICR) to the Office of Management and Budget (OMB) for review and approval in accordance with the Paperwork Reduction Act of 1995 (PRA). Public comments on the ICR are invited.

DATES: The OMB will consider all written comments that the agency receives on or before November 13, 2023.

ADDRESSES: Written comments and recommendations for the proposed information collection should be sent within 60 days of publication of this notice to www.reginfo.gov/public/do/PRAMain. Find this particular information collection by selecting “Currently under 60-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at bouchet.nicole@dol.gov.

SUPPLEMENTARY INFORMATION: The information collections in this generic clearance are designed to support outreach opportunities related to a wide range of agency responsibilities including, but not limited to: pension programs, occupational safety and health programs, mine safety and health programs, veterans' programs, employment and training programs, statistical programs, and labor management standards.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Type of Review: Extension.

Agency: DOL—OASAM.

Title of Collection: Department of Labor Generic Clearance for Outreach Activities.

OMB Number: 1225-0059.

Affected Public: Individuals and Households; Private Sector; not-for-profit institutions; State, Local and Tribal Governments.

Number of Respondents: 800,000.

Number of Responses: 800,000.

Annual Burden Hours: 80,000 hours.

Annual Respondent or Recordkeeper Cost: $0.

(Authority: 44 U.S.C. 3507(a)(1)(D))

Nicole Bouchet,
Acting Departmental Clearance Officer.

[FR Doc. 2023-19488 Filed 9-8-23; 8:45 am]

BILLING CODE 4510-04-P